DEPARTMENT OF ENERGY

Federal Energy Regulatory Commission

Combined Notice of Filings #1

Take notice that the Commission received the following exempt wholesale generator filings:

Docket Numbers: EG16-122-000.

Applicants: Hancock Wind, LLC.

Description: Notice of Self-Certification of Exempt Wholesale Generator Status of Hancock Wind, LLC.

Filed Date: 6/24/16.

Accession Number: 20160624-5090.

Comments Due: 5 p.m. ET 7/15/16.

Take notice that the Commission received the following electric rate filings:

Docket Numbers: ER10-2331-056; ER10-2319-047; ER13-1351-029; ER10-2330-054; ER10-2317-047.

Applicants: J.P. Morgan Ventures Energy Corporation, BE Alabama LLC, BE CA LLC, Florida Power Development LLC, Utility Contract Funding, L.L.C.

Description: Notice of Non-Material Change in Status of the JPMorgan Sellers.

Filed Date: 6/22/16.

Accession Number: 20160622-5217.

Comments Due: 5 p.m. ET 7/13/16.

Docket Numbers: ER16-1232-001.

Applicants: PJM Interconnection, L.L.C.

Description: Tariff Amendment: Response to Deficiency Letter per May 24, 2016 Order in Docket No. ER16-1232-000 to be effective 6/16/2016.

Filed Date: 6/23/16.

Accession Number: 20160623-5164.

Comments Due: 5 p.m. ET 7/14/16.

Docket Numbers: ER16-1995-000.

Applicants: Southwest Power Pool, Inc.

Description: § 205(d) Rate Filing: 1636R16 Kansas Electric Power Cooperative, Inc. NITSA and NOA to be effective 9/1/2016.

Filed Date: 6/23/16.

Accession Number: 20160623-5162.

Comments Due: 5 p.m. ET 7/14/16.

Docket Numbers: ER16-1996-000.

Applicants: Southwest Power Pool, Inc.

Description: § 205(d) Rate Filing: 2198R21 Kansas Power Pool NITSA NOA to be effective 9/1/2016.

Filed Date: 6/24/16.

Accession Number: 20160624-5040.

Comments Due: 5 p.m. ET 7/15/16.

Docket Numbers: ER16-1997-000.

Applicants: Southwest Power Pool, Inc.

Description: § 205(d) Rate Filing: 1534R6 Kansas Municipal Energy Agency NITSA NOA to be effective 6/1/2016.

Filed Date: 6/24/16.

Accession Number: 20160624-5042.

Comments Due: 5 p.m. ET 7/15/16.

Docket Numbers: ER16-1998-000.

Applicants: CalPeak Power—Border LLC.

Description: § 205(d) Rate Filing: Category 1 Seller Notice re SW & 819 to be effective 6/25/2016.

Filed Date: 6/24/16.

Accession Number: 20160624-5044.

Comments Due: 5 p.m. ET 7/15/16.

Docket Numbers: ER16-1999-000.

Applicants: CalPeak Power LLC.

Description: § 205(d) Rate Filing: Category 1 Seller Notice re SW & 819 to be effective 6/25/2016.

Filed Date: 6/24/16.

Accession Number: 20160624-5054.

Comments Due: 5 p.m. ET 7/15/16.

Docket Numbers: ER16-2000-000.

Applicants: CalPeak Power—Enterprise LLC.

Description: § 205(d) Rate Filing: Category 1 Seller Notice re SW & 819 to be effective 6/25/2016.

Filed Date: 6/24/16.

Accession Number: 20160624-5055.

Comments Due: 5 p.m. ET 7/15/16.

Docket Numbers: ER16-2001-000.

Applicants: Malaga Power, LLC.

Description: § 205(d) Rate Filing: Category 1 Seller Notice re SW & 819 to be effective 6/25/2016.

Filed Date: 6/24/16.

Accession Number: 20160624-5058.

Comments Due: 5 p.m. ET 7/15/16.

Docket Numbers: ER16-2002-000.

Applicants: Midway Peaking, LLC.

Description: § 205(d) Rate Filing: Category 1 Seller Notice re SW & 819 to be effective 6/25/2016.

Filed Date: 6/24/16.

Accession Number: 20160624-5059.

Comments Due: 5 p.m. ET 7/15/16.

Docket Numbers: ER16-2003-000.

Applicants: CalPeak Power—Panoche LLC.

Description: § 205(d) Rate Filing: Category 1 Seller Notice re SW & 819 to be effective 6/25/2016.

Filed Date: 6/24/16.

Accession Number: 20160624-5060.

Comments Due: 5 p.m. ET 7/15/16.

Docket Numbers: ER16-2004-000.

Applicants: SEPG Energy Marketing Services, LLC.

Description: § 205(d) Rate Filing: Category 1 Seller Notice re SW & 819 to be effective 6/25/2016.

Filed Date: 6/24/16.

Accession Number: 20160624-5061.

Comments Due: 5 p.m. ET 7/15/16.

Docket Numbers: ER16-2005-000.

Applicants: PPL Electric Utilities Corporation.

Description: Notice of Cancellation of Transmission Interconnection Agreement Rate Schedule No. 39 of PPL Electric Utilities Corporation.

Filed Date: 6/24/16.

Accession Number: 20160624-5062.

Comments Due: 5 p.m. ET 7/15/16.

Docket Numbers: ER16-2006-000.

Applicants: CalPeak Power—Vaca Dixon LLC.

Description: § 205(d) Rate Filing: Category 1 Seller Notice re SW & 819 to be effective 6/25/2016.

Filed Date: 6/24/16.

Accession Number: 20160624-5063.

Comments Due: 5 p.m. ET 7/15/16.

Docket Numbers: ER16-2007-000.

Applicants: Saguaro Power Company, a Limited Partner.

Description: § 205(d) Rate Filing: Market-Based Rate Tariff Revisions to be effective 6/25/2016.

Filed Date: 6/24/16.

Accession Number: 20160624-5065.

Comments Due: 5 p.m. ET 7/15/16.

Docket Numbers: ER16-2008-000.

Applicants: Southwest Power Pool, Inc.

Description: § 205(d) Rate Filing: 1977R8 Nemaha-Marshall Electric Cooperative NITSA and NOA to be effective 9/1/2016.

Filed Date: 6/24/16.

Accession Number: 20160624-5070.

Comments Due: 5 p.m. ET 7/15/16.

Docket Numbers: ER16-2009-000.

Applicants: Southwest Power Pool, Inc.

Description: § 205(d) Rate Filing: 2014 Southwestern Power Administration Amendatory Agreement Fourth Extension to be effective 6/1/2016.

Filed Date: 6/24/16.

Accession Number: 20160624-5072.

Comments Due: 5 p.m. ET 7/15/16.

Docket Numbers: ER16-2010-000.

Applicants: Hancock Wind, LLC.

Description: Baseline eTariff Filing: MBR Application to be effective 8/24/2016.

Filed Date: 6/24/16.

Accession Number: 20160624-5096.

Comments Due: 5 p.m. ET 7/15/16.

Docket Numbers: ER16-2011-000.

Applicants: Pennsylvania Electric Company, Jersey Central Power & Light, Metropolitan Edison Company, American Transmission Systems, Incorporated, PJM Interconnection, L.L.C.

Description: § 205(d) Rate Filing: Penelec, JCPL, Met-Ed and ATSI submit SA Nos. 4221, 4222, 4223 and 4468 to be effective 1/31/2016.

Filed Date: 6/24/16.

Accession Number: 20160624-5119.

Comments Due: 5 p.m. ET 7/15/16.

Docket Numbers: ER16-2012-000.

Applicants: The Narragansett Electric Company.

Description: § 205(d) Rate Filing: Filing of Indemnification Agreement with Deepwater Wind & Notice Waiver Request to be effective 5/10/2016.

Filed Date: 6/24/16.

Accession Number: 20160624-5134.

Comments Due: 5 p.m. ET 7/15/16.

Docket Numbers: ER16-2013-000.

Applicants: FirstEnergy Solutions Corp.

Description: Compliance filing: Compliance filing 2016 June to be effective 6/1/2016.

Filed Date: 6/24/16.

Accession Number: 20160624-5162.

Comments Due: 5 p.m. ET 7/15/16.

Docket Numbers: ER16-2014-000.

Applicants: ArcLight Energy Marketing, LLC.

Description: Market-Based Triennial Review Filing: Southwest Triennial & 819 Revisions to be effective 6/25/2016.

Filed Date: 6/24/16.

Accession Number: 20160624-5175.

Comments Due: 5 p.m. ET 8/23/16.

Docket Numbers: ER16-2015-000.

Applicants: Aragonne Wind LLC.

Description: Market-Based Triennial Review Filing: Southwest Triennial & 819 Revisions to be effective 6/25/2016.

Filed Date: 6/24/16.

Accession Number: 20160624-5180.

Comments Due: 5 p.m. ET 8/23/16.

Docket Numbers: ER16-2016-000.

Applicants: Buena Vista Energy, LLC.

Description: Market-Based Triennial Review Filing: Southwest Triennial & 819 Revisions to be effective 6/25/2016.

Filed Date: 6/24/16.

Accession Number: 20160624-5182.

Comments Due: 5 p.m. ET 8/23/16.

Docket Numbers: ER16-2017-000.

Applicants: Kumeyaay Wind LLC.

Description: Market-Based Triennial Review Filing: Southwest Triennial & 819 Revisions to be effective 6/25/2016.

Filed Date: 6/24/16.

Accession Number: 20160624-5183.

Comments Due: 5 p.m. ET 8/23/16.

Docket Numbers: ER16-2018-000.

Applicants: Mesquite Power, LLC.

Description: Market-Based Triennial Review Filing: Southwest Triennial & 819 Revisions to be effective 6/25/2016.

Filed Date: 6/24/16.

Accession Number: 20160624-5184.

Comments Due: 5 p.m. ET 8/23/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2016.
Nathaniel J. Davis, Sr.,
Deputy Secretary.

[FR Doc. 2016-15554 Filed 6-29-16; 8:45 am]

BILLING CODE 6717-01-P